ENVIRONMENTAL PROTECTION AGENCY

40 CFR Part 52

[EPA-R04-OAR-2006-0577-200624(c); FRL-8317-3]

Approval and Promulgation of Implementation Plans; Georgia: Removal of Douglas County Transportation Control Measure; Correcting Amendment

AGENCY: Environmental Protection Agency (EPA).

ACTION: Final rule; correcting amendment.

SUMMARY: This action corrects an inadvertent omission of the entry number for the Alternative Fuel Refueling Station/Park and Ride Transportation Center, Project DO-AR-211 in EPA's direct final rulemaking action, published in the Federal Register on November 28, 2006, for the Georgia State Implementation Plan.

DATES: This action is effective May 23, 2007.

ADDRESSES: EPA has established a docket for this action under Docket Identification No. EPA-R04-OAR-2006-0577. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Lynorae Benjamin, Air Quality Modeling and Transportation Section, Air Planning Branch, Air, Pesticides and Toxics Management Division, U.S. Environmental Protection Agency, Region 4, 61 Forsyth Street, SW., Atlanta, Georgia 30303-8960. The telephone number is (404) 562-9040. Ms. Benjamin can also be reached via electronic mail at Benjamin.Lynorae@epa.gov.

SUPPLEMENTARY INFORMATION: This action corrects an inadvertent omission of the entry number for the Alternative Fuel Refueling Station/Park and Ride Transportation Center, Project DO-AR-211, in EPA's direct final rulemaking action, published in the Federal Register on November 28, 2006 (71 FR 68740), for the Georgia State Implementation Plan. Through that November 28 action, we included an entry for the table in § 52.570(e), entitled “EPA Approved Georgia Nonregulatory Provisions,” as “Alternative Fuel Refueling Station/Park and Ride Transportation Center, Project DO-AR-211 is removed.” However, we did not include an entry number. All previous entries for the table in § 52.570(e) included entry numbers. Today, EPA is correcting this inadvertent error by inserting the entry number “24” for the Alternative Fuel Refueling Station/Park and Ride Transportation Center, Project DO-AR-211.

EPA has determined that today's action falls under the “good cause” exemption in section 553(b)(3)(B) of the Administrative Procedure Act (APA) which, upon finding “good cause,” authorizes agencies to dispense with public participation where public notice and comment procedures are impracticable, unnecessary, or contrary to the public interest. Public notice and comment for this action are unnecessary because today's action to identify, in the Code of Federal Regulations, the entry number for the Alternative Fuel Refueling Station/Park and Ride Transportation Center, Project DO-AR-211, has no substantive impact on EPA's November 28, 2006, approval. The omission of entry number for the Alternative Fuel Refueling Station/Park and Ride Transportation Center, Project DO-AR-211, in EPA's direct final rule published on November 28, 2006, makes no substantive difference to EPA's analysis as set out in that rule. In addition, EPA can identify no particular reason why the public would be interested in being notified of the correction of this omission, or in having the opportunity to comment on the correction prior to this action being finalized, since this correction action does not change EPA's analysis for the removal of the Alternative Fuel Refueling Station/Park and Ride Transportation Center, Project DO-AR-211, from the Georgia State Implementation Plan. See, 71 FR 68740.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. Today's rule, however, does not create any new regulatory requirements such that affected parties would need time to prepare before the rule takes effect. Rather, today's rule merely corrects an inadvertent error of omission for the entry number related to the Alternative Fuel Refueling Station/Park and Ride Transportation Center, Project DO-AR-211, for the table in § 52.570(e), entitled “EPA Approved Georgia Nonregulatory Provisions.” For these reasons, EPA finds good cause under APA section 553(d)(3) for this correction to become effective on the date of publication of this action.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects an inadvertent error of omission for the entry number related to the Alternative Fuel Refueling Station/Park and Ride Transportation Center, Project DO-AR-211, for the table in § 52.570(e), entitled “EPA Approved Georgia Nonregulatory Provisions,” and it imposes no additional requirements beyond those imposed by state law. Accordingly, the Administrator certifies that this rule will not have a significant economic impact on a substantial number of small entities under the Regulatory Flexibility Act (5 U.S.C. 601 et seq.). Because this rule merely corrects an inadvertent error of omission for the entry number related to the Alternative Fuel Refueling Station/Park and Ride Transportation Center, Project DO-AR-211, for the table in § 52.570(e), entitled “EPA Approved Georgia Nonregulatory Provisions,” and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely corrects an inadvertent error of omission for the entry number related to the Alternative Fuel Refueling Station/Park and Ride Transportation Center, Project DO-AR-211, for the table in § 52.570(e), entitled “EPA Approved Georgia Nonregulatory Provisions,” and does not alter the relationship or the distribution of power and responsibilities established in the Clean Air Act (CAA). This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 23, 2007. Filing a petition for reconsideration by the Administrator of this final rule does not affect the finality of this rule for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Intergovernmental relations, Nitrogen dioxide, Ozone, Particulate matter, Reporting and recordkeeping requirements, Volatile organic compounds.

Dated: May 14, 2007.
Russell L. Wright, Jr.,
Acting Regional Administrator, Region 4.

40 CFR part 52 is amended as follows:

PART 52—[AMENDED]

1. The authority citation for part 52 continues to read as follows:

Authority: 42 U.S.C. 7401 et seq.

Subpart L—Georgia

2. Section 52.570(e) is amended by revising an entry at the end of the table for “Douglas County, GA” to read as follows:

§ 52.570 Identification of plan.

* * * * *

(e) * * *

EPA Approved Georgia Nonregulatory Provisions
Name of nonregulatory SIP provision | Applicable geographic or nonattainment area | State submittal date/effective date | EPA approval date
24. Alternative Fuel Refueling Station/Park and Ride Transportation Center, Project DO-AR-211 is removed | Douglas County, GA | 09/19/06 | 5/23/07, [Insert citation of publication].

[FR Doc. E7-9909 Filed 5-22-07; 8:45 am]

BILLING CODE 6560-50-P